FEDERAL MARITIME COMMISSION

[Docket No. 21-16]

Wan Hai Lines, Ltd. and Wan Hai Lines (USA) Ltd.; Possible Violations; Order of Investigation and Hearing

AGENCY: Federal Maritime Commission.

ACTION: Notice of Order of Investigation and Hearing.

DATES: The Order of Investigation and Hearing was served December 30, 2021.

SUPPLEMENTARY INFORMATION: On December 30, 2021, the Federal Maritime Commission instituted an Order of Investigation and Hearing entitled Wan Hai Lines, Ltd. and/or Wan Hai Lines (U.S.A.) Ltd. Possible Violations of 46 U.S.C. 41102(c). Acting pursuant to Section 41102(c) of Title 46 of the United States Code, that investigation is instituted to determine:

(1) Whether Wan Hai Lines, Ltd. and/or Wan Hai Lines (USA) Ltd. are violating or have violated section 41102(c) of the Shipping Act by failing to establish, observe, and enforce just and reasonable regulations and practices relating to its assessment of charges on containers when return locations with corresponding appointments were unavailable.

The Order may be viewed in its entirety at http://www.fmc.gov/21-16.

Authority: 46 U.S.C. 41102(c).

William Cody,
Secretary.

[FR Doc. 2021-28594 Filed 1-5-22; 8:45 am]

BILLING CODE 6730-02-P